DEPARTMENT OF HOMELAND SECURITY

Coast Guard

33 CFR Part 165

[CGD01-05-094]

RIN 1625-AA11

Regulated Navigation Area: Navigable Waters Within Narragansett Bay, RI and Mount Hope Bay, MA, Including the Providence River and Taunton River

AGENCY: Coast Guard, DHS.

ACTION: Notice of public meetings, and re-opening of comment period.

SUMMARY: In response to public requests, the Coast Guard will hold two public meetings to receive comments on its Notice of Proposed Rulemaking (NPRM) to modify the existing Regulated Navigation Area (RNA) in the Providence River, Narragansett Bay, and Mount Hope Bay. Additionally, the Coast Guard is re-opening the period to receive comments on that NPRM. Holding two public meetings and re-opening the comment period will provide the public additional opportunities and more time to submit comments and recommendations.

DATES: A public meeting will be held in Fall River, MA, on October 16, 2006, beginning at 7 p.m., and in Warwick, RI, on October 19, 2006, beginning at 7 p.m. Comments and related material must reach the Coast Guard on or before November 1, 2006.

ADDRESSES: You may mail comments and related material to U.S. Coast Guard Sector Southeastern New England, Prevention Department, 20 Risho Avenue, East Providence, RI 02914-1208. U.S. Coast Guard Sector Southeastern New England maintains the public docket for this rulemaking. Comments and documents will become part of this docket and will be available for inspection and copying at the same address between 8 a.m. and 3 p.m. Monday through Friday, except Federal holidays.

The public meetings locations are:

• Bristol Community College, Margaret Jackson Arts Center Theater, 777 Elsbree Street, Fall River, Massachusetts; and

• Community College of Rhode Island, Knight Campus, Henderson Presentation Room #4080, 400 East Avenue, Warwick, Rhode Island.

FOR FURTHER INFORMATION CONTACT: Mr. Edward G. LeBlanc at Coast Guard Sector Southeastern New England, 401-435-2351.

SUPPLEMENTARY INFORMATION:

Request for Comments

On May 25, 2006, the Commander, First Coast Guard District, published a notice of proposed rulemaking (NPRM) in the Federal Register that proposed revisions to current navigation safety measures in Narragansett Bay, including the Providence River, and proposed new measures for vessels operating in Mount Hope Bay, particularly when transiting through the old and new Brightman Street bridges. (See the Federal Register Vol. 71, pages 30108-30112.) A total of six comments were received by the August 23, 2006 deadline.

Two of those comments requested public hearings, and we have determined that providing an opportunity for oral presentations at public meetings would assist the Coast Guard in this rulemaking. Therefore, we will sponsor public hearings at the times and places described in the Public Meetings paragraph below. Additionally, the Coast Guard is re-opening the comment period through November 1, 2006.

We encourage you to participate in this rulemaking by submitting comments and related material. If you do so, please include your name and address, identify the docket number for this rulemaking (CGD01-05-094), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them. Comments received on or before November 1, 2006, will be considered timely.

Public Meetings

We intend to hold two public meetings to receive comments on our proposed rule published May 25, 2006, that would revise some provisions of the existing RNA in the Providence River, Narragansett Bay, and Mount Hope Bay. For information on facilities or services for individuals with disabilities, or to request special assistance at the meetings, please call Mr. Edward G. LeBlanc of Coast Guard Sector Southeastern New England at 401-435-2351.

The times, dates, and locations for these two meetings are:

• From 7 p.m. to 9 p.m., Monday, October 16, 2006, at Bristol Community College, Margaret Jackson Arts Center Theater, 777 Elsbree Street, Fall River, Massachusetts; and

• From 7 p.m. to 9 p.m., Thursday, October 19, 2006, at the Community College of Rhode Island, Knight Campus, Henderson Presentation Room #4080, 400 East Avenue, Warwick, Rhode Island.

We may adjourn these public meetings earlier if all comments have been received from those present.

Dated: September 18, 2006.
T.S. Sullivan,
Rear Admiral, U.S. Coast Guard, Commander, First Coast Guard District.

[FR Doc. E6-16094 Filed 9-29-06; 8:45 am]

BILLING CODE 4910-15-P